DEPARTMENT OF LABOR

Employment and Training Administration

[TA-W-57,447]

LC Special Markets Company, Inc., a Subsidiary of Liz Claiborne, Inc., North Bergen, NJ; Notice of Termination of Investigation

Pursuant to section 221 of the Trade Act of 1974, as amended, an investigation was initiated on June 24, 2005, in response to a petition filed by a State workforce representative on behalf of workers at LC Special Markets Company, Inc., a subsidiary of Liz Claiborne, Inc., North Bergen, New Jersey.

The petitioning group of workers is covered by an active certification, (TA-W-55,748) which expires on March 25, 2007. Consequently, further investigation in this case would serve no purpose, and the investigation has been terminated.

Signed in Washington, DC this 27th day of July, 2005.
Elliott S. Kushner,
Certifying Officer, Division of Trade Adjustment Assistance.

[FR Doc. E5-4497 Filed 8-17-05; 8:45 am]

BILLING CODE 4510-30-P